DEPARTMENT OF COMMERCE

Foreign-Trade Zones Board

[Docket 60-2011]

Foreign-Trade Zone 140—Flint, Michigan; Application for Subzone; Dow Corning Corporation (Silicon-Based Products); Midland, MI

An application has been submitted to the Foreign-Trade Zones Board (the Board) by the City of Flint, grantee of FTZ 140, requesting special-purpose subzone status for the silicon-based product manufacturing facility of Dow Corning Corporation (Dow Corning), located in Midland, Michigan. The application was submitted pursuant to the provisions of the Foreign-Trade Zones Act, as amended (19 U.S.C. 81a-81u), and the regulations of the Board (15 CFR part 400). It was formally filed on October 5, 2011.

The Dow Corning facility (1,250 employees, 489 acres, 450,000 metric tons capacity) is located at 3901 S. Saginaw Road, Midland, Michigan. The facility is used for the manufacturing and distribution of silicon-based products including elastomers, resins, fluids, silanes, polymers, gums, sealants and emulsions. Components and materials sourced from abroad (representing 10% of the value of the finished product) include: isododecane, iso hexadecane, silicon metal, carbon dioxide liquid, magnesium sulfate, methallyl chloride, monochlorobenzene, trifluoromethane sulfonic, ethylene glycol, 2-ethyl-1,3-hexanediol, glycerine, biocide, ionol CP, allylglycol, allyl glycidyl ether, methyl ethyl ketone, diacetone alcohol, octanoic acid, undecylenic acid, monoplex dos, ethyl silicate, sparc base, dimethylethanolamine, vinyltriacetoxysilane, dimethyl me phosphonate, hexamethylcyclotrisilazane, lutensol, reactivated carbon, tonsil catalyst, kathon CG preservative, acticide, organosilane solution, silicone resin solution, silicone dispersion, carbopol, polycerin and KBM 802 (duty rate ranges from duty-free to 7%). The application indicates that any inputs that fall under HTSUS Heading 3204 will be admitted to the subzone in privileged foreign (PF) status (19 CFR 146.41). In addition, Dow Corning has indicated that they will accept a restriction prohibiting the admission of foreign status silicon metal subject to an antidumping or countervailing duty order into the proposed subzone.

FTZ procedures could exempt Dow Corning from customs duty payments on the foreign components used in export production. The company anticipates that some 20 percent of the plant's shipments will be exported. On its domestic sales, Dow Corning would be able to choose the duty rates during customs entry procedures that apply to finished silicon-based products (duty rate ranges from duty-free to 6.5%) for the foreign inputs noted above. FTZ designation would further allow Dow Corning to realize logistical benefits through the use of weekly customs entry procedures. Customs duties also could possibly be deferred or reduced on foreign status production equipment. The request indicates that the savings from FTZ procedures would help improve the plant's international competitiveness.

In accordance with the Board's regulations, Elizabeth Whiteman of the FTZ Staff is designated examiner to evaluate and analyze the facts and information presented in the application and case record and to report findings and recommendations to the Board.

Public comment is invited from interested parties. Submissions (original and 3 copies) shall be addressed to the Board's Executive Secretary at the address below. The closing period for their receipt is December 12, 2011. Rebuttal comments in response to material submitted during the foregoing period may be submitted during the subsequent 15-day period to December 26, 2011.

A copy of the application will be available for public inspection at the Office of the Executive Secretary, Foreign-Trade Zones Board, Room 2111, U.S. Department of Commerce, 1401 Constitution Avenue, NW., Washington, DC 20230-0002, and in the “Reading Room” section of the Board's Web site, which is accessible via http://www.trade.gov/ftz.

For further information, contact Elizabeth Whiteman at Elizabeth.Whiteman@trade.gov or (202) 482-0473.

Dated: October 5, 2011.
Andrew McGilvray,
Executive Secretary.

[FR Doc. 2011-26364 Filed 10-11-11; 8:45 am]

BILLING CODE 3510-DS-P